DEPARTMENT OF LABOR

Employment and Training Administration

[TA-W-41,449]

Biljo, Inc., Currently Known as Kalikow Brothers LP, Dublin, GA; Amended Certification Regarding Eligibility to Apply for Worker Adjustment Assistance

In accordance with section 223 of the Trade Act of 1974 (19 U.S.C. 2273) the Department of Labor issued a Certification Regarding Eligibility to Apply for Worker Adjustment Assistance on June 11, 2002, applicable to workers of Biljo, Inc., located in Dublin, Georgia. The notice was published in the Federal Register on June 24, 2002 (67 FR 42583).

At the request of the State agency, the Department reviewed the certification for workers of the subject firm. The workers produce men's and boy's slacks and pants. Information provided by the State shows that Biljo, Inc. was taken over by Kalikow Brothers LP and some of workers at that plant were separated under the Kalikow name.

It is the Department's intent to include all workers of Biljo, Inc. adversely affected by increased imports.

Based on the new information provided by the State, the Department is amending the certification to expand coverage to workers of Kalikow Brothers LP.

The amended notice applicable to TA-W-41,449 is hereby issued as follows:

“All workers of Biljo, Inc., Dublin, Georgia, who became totally or partially separated from employment on or after June 2, 2002, through June 11, 2004, are eligible to apply for adjustment assistance under Section 223 of the Trade Act of 1974.”

Signed at Washington, DC, this 3rd day of December, 2002.
Linda G. Poole,
Certifying Officer, Division of Trade Adjustment Assistance.

[FR Doc. 02-32587 Filed 12-24-02; 8:45 am]

BILLING CODE 4510-30-P